COMMITTEE FOR PURCHASE FROM PEOPLE WHO ARE BLIND OR SEVERELY DISABLED

Procurement List: Additions and Deletions

AGENCY: Committee for Purchase From People Who Are Blind or Severely Disabled.

ACTION: Additions to and deletions from Procurement List.

SUMMARY: This action adds to the Procurement List a product and services to be furnished by nonprofit agencies employing persons who are blind or have other severe disabilities, and deletes from the Procurement List products previously furnished by such agencies.

DATES: Effective Date: February 8, 2009.

ADDRESSES: Committee for Purchase From People Who Are Blind or Severely Disabled, Jefferson Plaza 2, Suite 10800, 1421 Jefferson Davis Highway, Arlington, Virginia, 22202-3259.

FOR FURTHER INFORMATION CONTACT: Barry S. Lineback, Telephone: (703) 603-7740, Fax: (703) 603-0655, or e-mail CMTEFedReg@AbilityOne.gov.

SUPPLEMENTARY INFORMATION: The Committee's longstanding convention is to publish its proposed and final notices on Friday each week; however, the notices that should have been published on Friday, 01/02/2009 were published on Monday, 01/05/2009 instead. Interested members of the Public can see 74 FR 260, 261 for the proposed additions and deletions to the Procurement List that were published on Monday, 01/05/2009 instead of Friday, 01/02/2009.

Additions

On 10/10/2008 and 11/7/2008, the Committee for Purchase From People Who Are Blind or Severely Disabled published notices (73 FR 60236, 60237 and 73 FR 66216, 66217) of proposed additions to the Procurement List.

After consideration of the material presented to it concerning capability of qualified nonprofit agencies to provide the product and services and impact of the additions on the current or most recent contractors, the Committee has determined that the product and services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the product and services to the Government.

2. The action will result in authorizing small entities to furnish the product and services to the Government.

3. There are no known regulatory alternatives which would accomplish the objectives of the Javits-Wagner-O'Day Act (41 U.S.C. 46-48c) in connection with the product and services proposed for addition to the Procurement List.

End of Certification

Accordingly, the following product and services are added to the Procurement List:

Product

Bag, Sand, Polypropylene, 20″ x 14″, Green

NSN: 8105-01-467-0402.

NPA: Southeast Vocational Alliance, Inc., Houston, TX.

Contracting Activity: Defense Logistics Agency, Defense Supply Center Philadelphia.

Services

Service Type/Location: Custodial Services, Depot Maintenance Activity Group at Robins AFB, Building 640, Robins AFB, GA.

NPA: Good Vocations, Inc., Macon, GA.

Contracting Activity: Dept of the Air Force, FA8501 WR ALC PKO.

Service Type/Location: Custodial Grounds Maintenance, Multiple Locations Parcel #13, Parcel #13, St John, VI.

Service Type/Location: Grounds Maintenance, Multiple Locations St Thomas, 6310 Est Nazaareth, Red Hook, St Thomas, VI.

NPA: The Corporate Source, Inc., New York, NY.

Contracting Activity: National Park Service, Southeast Region.

Service Type/Location: Laundry Service, Fort Indiantown Gap, Annville, PA.

NPA: Opportunity Center, Incorporated, Wilmington, DE.

Contracting Activity: Dept of the Army, XRAW7NX USPFO Activity PA ARNG.

Deletions:

On 10/17/2008 and 10/31/2008, the Committee for Purchase From People Who Are Blind or Severely Disabled published notices (73 FR 61779 and 73 FR 64908) of proposed deletions to the Procurement List.

After consideration of the relevant matter presented, the Committee has determined that the products listed below are no longer suitable for procurement by the Federal Government under 41 U.S.C. 46-48c and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products to the Government.

3. There are no known regulatory alternatives which would accomplish the objectives of the Javits-Wagner-O'Day Act (41 U.S.C. 46-48c) in connection with the products deleted from the Procurement List.

End of Certification

Accordingly, the following products are deleted from the Procurement List:

Products

Cloth, Abrasive

NSN: 5350-00-187-6285.

NPA: Louisiana Association for the Blind, Shreveport, LA.

Contracting Activity: GSA/FAS Southwest Supply Center (QSDAC), Fort Worth, TX.

Clipboard Folder, Recycled

NSN: 7520-01-484-1746.

NPA: Industries of the Blind, Inc., Greensboro, NC.

Contracting Activity: GSA/FSS OFC SUP CTR—PAPER PRODUCTS, NEW YORK, NY.

EcoLab Water Soluble Cleaners/Detergents

NSN: 7930-01-436-8012.

NPA: Assoc f/t Blind & Visually Impaired & Goodwill Ind. of Greater Rochester, Rochester, NY.

Contracting Activity: GSA/FAS SOUTHWEST SUPPLY CENTER (QSDAC), FORT WORTH, TX.

Barry S. Lineback,
Acting Director, Program Operations,

[FR Doc. E9-221 Filed 1-8-09; 8:45 am]

BILLING CODE 6353-01-P